DEPARTMENT OF COMMERCE

Foreign-Trade Zones Board

[B-17-2014]

Foreign-Trade Zone (FTZ) 50—Long Beach, California; Notification of Proposed Production Activity; Forged Metals Inc. (Aerospace and Industrial Turbine Engine Parts, Forgings); Fontana, California

The Board of Harbor Commissioners of the Port of Long Beach, grantee of FTZ 50, submitted a notification of proposed production activity to the FTZ Board on behalf of Forged Metals Inc. (FMI), located in Fontana, California. The notification conforming to the requirements of the regulations of the FTZ Board (15 CFR 400.22) was received on February 4, 2014.

The FMI facility is located within Site 23 of FTZ 50. The facility is used for the production of nickel, aluminum, and titanium-based forgings and parts of turbine engines (e.g., rings and discs) used in aerospace and industrial gas turbine applications. Pursuant to 15 CFR 400.14(b), FTZ activity would be limited to the specific foreign-status materials and specific finished products described in the submitted notification (as described below) and subsequently authorized by the FTZ Board. The proposed scope of FTZ production authority would not involve inverted tariff benefits on foreign titanium inputs (all foreign titanium will be admitted to the zone in privileged foreign status (19 CFR 146.41)).

Production under FTZ procedures could exempt FMI from customs duty payments on the foreign status material inputs used in export production. On its domestic sales, FMI would be able to defer payment of customs duties on the foreign titanium inputs (duty rate—15%). Customs duties also could possibly be deferred or reduced on foreign status production equipment.

The materials sourced from abroad include: titanium alloy, aluminum alloy, and nickel alloy (duty rate ranges from free to 15%).

Public comment is invited from interested parties. Submissions shall be addressed to the FTZ Board's Executive Secretary at the address below. The closing period for their receipt is April 14, 2014.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Pierre Duy at Pierre.Duy@trade.gov or (202) 482-1378.

Dated: February 20, 2014.
Andrew McGilvray,
Executive Secretary.

[FR Doc. 2014-04640 Filed 2-28-14; 8:45 am]

BILLING CODE 3510-DS-P